FEDERAL MARITIME COMMISSION

Notice of Agreements Filed

The Commission hereby gives notice of the filing of the following agreements under the Shipping Act of 1984. Interested parties may obtain copies of agreements by contacting the Commission's Office of Agreements at (202) 523-5793 or via e-mail at tradeanalysis@fmc.gov. Interested parties may submit comments on an agreement to the Secretary, Federal Maritime Commission, Washington, DC 20573, within 10 days of the date this notice appears in the Federal Register.

Agreement No.: 008005-009.

Title: New York Terminal Conference Agreement.

Parties: American Stevedoring Inc.; Port Newark Container Terminal LLC; Universal Maritime Service Corp.; New York Container Terminal; and Global Terminal and Container Services.

Filing Party: George J. Lair; New York Terminal Conference; PO Box 875; Chatham, NJ 07928.

Synopsis: The amendment adds New York Container Terminal and Global Terminal and Container Services as parties to the agreement.

Agreement No.: 011764-002.

Title: Zim/Norasia/CSAV Slot Exchange Agreement.

Parties: Zim Integrated Shipping Services, Ltd.; Norasia Container Lines Limited and Compania Sud Americana de Vapores S.A.

Filing Party: Wayne R. Rohde, Esq.; Sher & Blackwell; 1850 M Street, NW., Suite 900; Washington, DC 20036.

Synopsis: The amendment deletes Egypt and adds Greece to the geographic scope of the agreement, revises the number of vessels deployed under the agreement, and clarifies space allocations. The parties request expedited review.

Agreement No.: 011852-018.

Title: Maritime Security Discussion Agreement.

Parties: China Shipping Container Lines, Co., Ltd.; CMA CGM, S.A.; Hyundai Merchant Marine Co., Ltd.; Kawasaki Kisen Kaisha, Ltd.; Nippon Yusen Kaisha; Yang Ming Marine Transport Corp.; Zim Integrated Shipping Services, Ltd.; Alabama State Port Authority; APM Terminals North America, Inc.; Ceres Terminals, Inc.; Cooper/T. Smith Stevedoring Co., Inc.; Husky Terminal & Stevedoring, Inc.; International Shipping Agency; International Transportation Service, Inc.; Lambert's Point Docks Inc.; Maersk Pacific Ltd.; Maher Terminals, Inc.; Marine Terminals Corp.; Maryland Port Administration; Massachusetts Port Authority; Metropolitan Stevedore Co.; P&O Ports North America, Inc.; Port of Tacoma; South Carolina State Ports Authority; Stevedoring Services of America, Inc.; Trans Bay Container Terminal, Inc.; TraPac Terminals; Universal Maritime Service Corp.; Virginia International Terminals; and Yusen Terminals, Inc.

Filing Parties: Carol N. Lambos; Lambos & Junge; 29 Broadway, 9th Floor; New York, NY 10006 and Charles T. Carroll, Jr.; Carroll & Froelich, PLLC; 2011 Pennsylvania Avenue, NW.; Suite 301; Washington, DC 20006.

Synopsis: The amendment deletes Global Terminal and Container Services, Inc.; Howland Hook Container Terminal; and Long Beach Container Terminal Inc. as members to the agreement.

Agreement No.: 011903.

Title: Americas Alliance Cooperative Working Agreement.

Parties: Great Western Steamship Co.; Maruba, S.A.; and U.S. Lines Limited.

Filing Party: Wayne R. Rohde, Esq.; Sher & Blackwell, LLP; 1850 M Street, NW.; Suite 900; Washington, DC 20036.

Synopsis: The agreement authorizes the parties to share vessel space in the trade between ports on the U.S. West Coast and ports in China.

Agreement No.: 011904.

Title: Atlantic Brazil Express Agreement.

Parties: CMA CGM, S.A.; P&O Nedlloyd Limited; and P&O Nedlloyd B.V.

Filing Party: Neal M. Mayer, Esq.; Hoppel, Mayer & Coleman LLP; 1000 Connecticut Avenue, NW.; Washington, DC 20036.

Synopsis: The agreement permits the parties to operate a service and share space between ports on the U.S. East Coast and ports in Brazil, Argentina, Uruguay, Venezuela, and Colombia.

By Order of the Federal Maritime Commission.
Dated: February 18, 2005.
Bryant L. VanBrakle,
Secretary.

[FR Doc. 05-3598 Filed 2-23-05; 8:45 am]

BILLING CODE 6730-01-P